DEPARTMENT OF TRANSPORTATION

Federal Aviation Administration

14 CFR Part 97

[Docket No. 31277; Amdt. No. 3874]

Standard Instrument Approach Procedures, and Takeoff Minimums and Obstacle Departure Procedures; Miscellaneous Amendments

AGENCY: Federal Aviation Administration (FAA), DOT.

ACTION: Final rule.

SUMMARY: This rule amends, suspends, or removes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide for the safe and efficient use of the navigable airspace and to promote safe flight operations under instrument flight rules at the affected airports.

DATES: This rule is effective October 21, 2019. The compliance date for each SIAP, associated Takeoff Minimums, and ODP is specified in the amendatory provisions.

The incorporation by reference of certain publications listed in the regulations is approved by the Director of the Federal Register as of October 21, 2019.

ADDRESSES: Availability of matter incorporated by reference in the amendment is as follows:

For Examination

1. U.S. Department of Transportation, Docket Ops—M30, 1200 New Jersey Avenue SE, West Bldg., Ground Floor, Washington, DC 20590-0001;

2. The FAA Air Traffic Organization Service Area in which the affected airport is located;

3. The office of Aeronautical Navigation Products, 6500 South MacArthur Blvd., Oklahoma City, OK 73169 or,

4. The National Archives and Records Administration (NARA).

For information on the availability of this material at NARA, email fedreg.legal@nara.gov or go to: https://www.archives.gov/federal-register/cfr/ibr-locations.html.

Availability

All SIAPs and Takeoff Minimums and ODPs are available online free of charge. Visit the National Flight Data Center online at nfdc.faa.gov to register. Additionally, individual SIAP and Takeoff Minimums and ODP copies may be obtained from the FAA Air Traffic Organization Service Area in which the affected airport is located.

FOR FURTHER INFORMATION CONTACT: Thomas J. Nichols, Flight Procedures and Airspace Group, Flight Technologies and Procedures Division, Flight Standards Service, Federal Aviation Administration. Mailing Address: FAA Mike Monroney Aeronautical Center, Flight Procedures and Airspace Group, 6500 South MacArthur Blvd., Registry Bldg. 29, Room 104, Oklahoma City, OK 73169. Telephone: (405) 954-4164.

SUPPLEMENTARY INFORMATION: This rule amends Title 14, Code of Federal Regulations, Part 97 (14 CFR part 97) by amending the referenced SIAPs. The complete regulatory description of each SIAP is listed on the appropriate FAA Form 8260, as modified by the National Flight Data Center (NFDC)/Permanent Notice to Airmen (P-NOTAM), and is incorporated by reference under 5 U.S.C. 552(a), 1 CFR part 51, and 14 CFR 97.20. The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained on FAA form documents is unnecessary.

This amendment provides the affected CFR sections, and specifies the SIAPs and Takeoff Minimums and ODPs with their applicable effective dates. This amendment also identifies the airport and its location, the procedure and the amendment number.

Availability and Summary of Material Incorporated by Reference

The material incorporated by reference is publicly available as listed in the ADDRESSES section.

The material incorporated by reference describes SIAPs, Takeoff Minimums and ODPs as identified in the amendatory language for part 97 of this final rule.

The Rule

This amendment to 14 CFR part 97 is effective upon publication of each separate SIAP and Takeoff Minimums and ODP as amended in the transmittal. For safety and timeliness of change considerations, this amendment incorporates only specific changes contained for each SIAP and Takeoff Minimums and ODP as modified by FDC permanent NOTAMs.

The SIAPs and Takeoff Minimums and ODPs, as modified by FDC permanent NOTAM, and contained in this amendment are based on the criteria contained in the U.S. Standard for Terminal Instrument Procedures (TERPS). In developing these changes to SIAPs and Takeoff Minimums and ODPs, the TERPS criteria were applied only to specific conditions existing at the affected airports. All SIAP amendments in this rule have been previously issued by the FAA in a FDC NOTAM as an emergency action of immediate flight safety relating directly to published aeronautical charts.

The circumstances that created the need for these SIAP and Takeoff Minimums and ODP amendments require making them effective in less than 30 days.

Because of the close and immediate relationship between these SIAPs, Takeoff Minimums and ODPs, and safety in air commerce, I find that notice and public procedure under 5 U.S.C. 553(b) are impracticable and contrary to the public interest and, where applicable, under 5 U.S.C. 553(d), good cause exists for making these SIAPs effective in less than 30 days.

The FAA has determined that this regulation only involves an established body of technical regulations for which frequent and routine amendments are necessary to keep them operationally current. It, therefore—(1) is not a “significant regulatory action” under Executive Order 12866; (2) is not a “significant rule” under DOT regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, Navigation (air).

Issued in Washington, DC, on October 4, 2019.
Rick Domingo,
Executive Director, Flight Standards Service.

Adoption of the Amendment

Accordingly, pursuant to the authority delegated to me, Title 14, Code of Federal regulations, Part 97, (14 CFR part 97), is amended by amending Standard Instrument Approach Procedures and Takeoff Minimums and ODPs, effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

By amending: § 97.23 VOR, VOR/DME, VOR or TACAN, and VOR/DME or TACAN; § 97.25 LOC, LOC/DME, LDA, LDA/DME, SDF, SDF/DME; § 97.27 NDB, NDB/DME; § 97.29 ILS, ILS/DME, MLS, MLS/DME, MLS/RNAV; § 97.31 RADAR SIAPs; § 97.33 RNAV SIAPs; and § 97.35 COPTER SIAPs, Identified as follows:

* * Effective Upon Publication

AIRAC Date | State | City | Airport | FDC No. | FDC Date | Subject
7-Nov-19 | TN | Smithville | Smithville Muni | 9/5548 | 9/17/19 | This NOTAM, published in Docket No. 31275, Amdt No. 3872, TL 19-23 (84 FR 51967; October 1, 2019), is hereby rescinded in its entirety.
7-Nov-19 | OR | Bend | Bend Muni | 9/5587 | 9/17/19 | This NOTAM, published in Docket No. 31275, Amdt No. 3872, TL 19-23 (84 FR 51967; October 1, 2019), is hereby rescinded in its entirety.
7-Nov-19 | OR | Bend | Bend Muni | 9/5588 | 9/17/19 | This NOTAM, published in Docket No. 31275, Amdt No. 3872, TL 19-23 (84 FR 51967; October 1, 2019), is hereby rescinded in its entirety.
7-Nov-19 | OR | Mc Minnville | Mc Minnville Muni | 9/5635 | 9/17/19 | This NOTAM, published in Docket No. 31275, Amdt No. 3872, TL 19-23 (84 FR 51967; October 1, 2019), is hereby rescinded in its entirety.
7-Nov-19 | PA | Ebensburg | Ebensburg | 9/5652 | 9/17/19 | This NOTAM, published in Docket No. 31275, Amdt No. 3872, TL 19-23 (84 FR 51967; October 1, 2019), is hereby rescinded in its entirety.
7-Nov-19 | SC | Pelion | Lexington County | 9/5657 | 9/17/19 | This NOTAM, published in Docket No. 31275, Amdt No. 3872, TL 19-23 (84 FR 51967; October 1, 2019), is hereby rescinded in its entirety.
7-Nov-19 | SC | Pelion | Lexington County | 9/5658 | 9/17/19 | This NOTAM, published in Docket No. 31275, Amdt No. 3872, TL 19-23 (84 FR 51967; October 1, 2019), is hereby rescinded in its entirety.
7-Nov-19 | IA | Algona | Algona Muni | 9/5774 | 9/17/19 | This NOTAM, published in Docket No. 31275, Amdt No. 3872, TL 19-23 (84 FR 51967; October 1, 2019), is hereby rescinded in its entirety.
7-Nov-19 | OH | Mount Vernon | Knox County | 9/5838 | 9/17/19 | This NOTAM, published in Docket No. 31275, Amdt No. 3872, TL 19-23 (84 FR 51967; October 1, 2019), is hereby rescinded in its entirety.
7-Nov-19 | FL | Zephyrhills | Zephyrhills Muni | 9/0295 | 9/25/19 | RNAV (GPS) RWY 23, Orig.
7-Nov-19 | OH | Lima | Lima Allen County | 9/0884 | 9/18/19 | RNAV (GPS) RWY 10, Amdt 1A.
7-Nov-19 | OK | Hinton | Hinton Muni | 9/0887 | 9/18/19 | RNAV (GPS) RWY 35, Amdt 1A.
7-Nov-19 | FL | Bartow | Bartow Executive | 9/1032 | 9/20/19 | RNAV (GPS) RWY 5, Orig-C.
7-Nov-19 | FL | Bartow | Bartow Executive | 9/1040 | 9/20/19 | RNAV (GPS) RWY 23, Orig-C.
7-Nov-19 | TX | Beaumont/Port Arthur | Jack Brooks Rgnl | 9/1320 | 9/20/19 | ILS OR LOC RWY 12, Amdt 23C.
7-Nov-19 | IN | Sheridan | Sheridan | 9/1331 | 9/20/19 | GPS RWY 5, Orig.
7-Nov-19 | IN | Sheridan | Sheridan | 9/1333 | 9/20/19 | GPS RWY 23, Orig.
7-Nov-19 | FL | Bartow | Bartow Executive | 9/1710 | 9/20/19 | RNAV (GPS) RWY 27R, Amdt 1B.
7-Nov-19 | MI | Muskegon | Muskegon County | 9/1781 | 9/20/19 | ILS OR LOC RWY 32, Amdt 20.
7-Nov-19 | TX | Austin | Austin-Bergstrom Intl | 9/3512 | 9/23/19 | ILS OR LOC RWY 17R, Amdt 5B.
7-Nov-19 | TN | Smithville | Smithville Muni | 9/5019 | 9/26/19 | RNAV (GPS) RWY 6, Amdt 3A.
7-Nov-19 | IA | Algona | Algona Muni | 9/5031 | 9/26/19 | RNAV (GPS) RWY 30, Amdt 1C.
7-Nov-19 | TX | Big Spring | Big Spring Mc Mahon—Wrinkle | 9/5040 | 9/26/19 | RNAV (GPS) RWY 35, Amdt 1.
7-Nov-19 | TN | Waverly | Humphreys County | 9/5539 | 9/20/19 | RNAV (GPS) RWY 3, Orig-A.
7-Nov-19 | TN | Waverly | Humphreys County | 9/5540 | 9/20/19 | RNAV (GPS) RWY 21, Orig-A.
7-Nov-19 | TN | Camden | Benton County | 9/5541 | 9/20/19 | RNAV (GPS) RWY 4, Orig-A.
7-Nov-19 | TN | Camden | Benton County | 9/5542 | 9/20/19 | RNAV (GPS) RWY 22, Orig-D.
7-Nov-19 | TN | Copperhill | Martin Campbell Field | 9/5546 | 9/20/19 | RNAV (GPS) RWY 20, Orig-A.
7-Nov-19 | VA | Richmond | Richmond Executive-Chesterfield County | 9/5558 | 9/20/19 | RNAV (GPS) RWY 15, Amdt 1C.
7-Nov-19 | PA | Lebanon | Keller Brothers | 9/5636 | 9/20/19 | RNAV (GPS) RWY 7, Orig-B.
7-Nov-19 | MI | Benton Harbor | Southwest Michigan Rgnl | 9/5655 | 9/18/19 | RNAV (GPS) RWY 10, Amdt 1C.
7-Nov-19 | SC | Saluda | Saluda County | 9/5659 | 9/20/19 | RNAV (GPS) RWY 1, Orig-A.
7-Nov-19 | SC | Bamberg | Bamberg County | 9/5668 | 9/20/19 | RNAV (GPS) RWY 5, Orig-B.
7-Nov-19 | SC | Bamberg | Bamberg County | 9/5669 | 9/20/19 | RNAV (GPS) RWY 23, Orig-B.
7-Nov-19 | SC | Aiken | Aiken Rgnl | 9/5670 | 9/20/19 | RNAV (GPS) RWY 25, Amdt 1D.
7-Nov-19 | SC | Bennettsville | Marlboro County Jetport—H E Avent Field | 9/5671 | 9/20/19 | RNAV (GPS) RWY 7, Amdt 1A.
7-Nov-19 | SC | Bennettsville | Marlboro County Jetport—H E Avent Field | 9/5672 | 9/20/19 | RNAV (GPS) RWY 25, Amdt 1A.
7-Nov-19 | SD | Gregory | Gregory Muni—Flynn Fld | 9/5673 | 9/18/19 | RNAV (GPS) RWY 13, Orig-A.
7-Nov-19 | NC | Charlotte | Charlotte/Douglas Intl | 9/5675 | 9/20/19 | ILS OR LOC RWY 18L, Amdt 10.
7-Nov-19 | NC | Charlotte | Charlotte/Douglas Intl | 9/5677 | 9/20/19 | ILS OR LOC RWY 23, Amdt 3D.
7-Nov-19 | SD | Aberdeen | Aberdeen Rgnl | 9/5681 | 9/18/19 | ILS OR LOC RWY 31, Amdt 13A.
7-Nov-19 | NE | Tecumseh | Tecumseh Muni | 9/5682 | 9/18/19 | RNAV (GPS) RWY 15, Orig-A.
7-Nov-19 | NE | Tecumseh | Tecumseh Muni | 9/5683 | 9/18/19 | RNAV (GPS) RWY 33, Orig-A.
7-Nov-19 | TX | Kenedy | Kenedy Rgnl | 9/5684 | 9/18/19 | RNAV (GPS) RWY 16, Orig-C.
7-Nov-19 | TX | Kenedy | Kenedy Rgnl | 9/5685 | 9/18/19 | RNAV (GPS) RWY 34, Orig-B.
7-Nov-19 | TX | La Grange | Fayette Rgnl Air Center | 9/5686 | 9/18/19 | RNAV (GPS) RWY 16, Amdt 2B.
7-Nov-19 | TX | La Grange | Fayette Rgnl Air Center | 9/5693 | 9/18/19 | RNAV (GPS) RWY 34, Amdt 2B.
7-Nov-19 | TX | Carthage | Panola County-Sharpe Field | 9/5694 | 9/18/19 | RNAV (GPS) RWY 17, Orig-A.
7-Nov-19 | TX | Carthage | Panola County-Sharpe Field | 9/5697 | 9/18/19 | RNAV (GPS) RWY 35, Orig-A.
7-Nov-19 | TX | Burnet | Burnet Muni Kate Craddock Field | 9/5702 | 9/20/19 | RNAV (GPS) RWY 19, Orig-A.
7-Nov-19 | TX | Burnet | Burnet Muni Kate Craddock Field | 9/5705 | 9/20/19 | RNAV (GPS) RWY 1, Orig-B.
7-Nov-19 | TX | Big Spring | Big Spring Mc Mahon-Wrinkle | 9/5709 | 9/18/19 | RNAV (GPS) RWY 6, Orig-A.
7-Nov-19 | TX | Big Spring | Big Spring Mc Mahon-Wrinkle | 9/5715 | 9/18/19 | RNAV (GPS) RWY 17, Amdt 1.
7-Nov-19 | NH | Manchester | Manchester | 9/5728 | 9/20/19 | RNAV (GPS) RWY 24, Amdt 1B.
7-Nov-19 | TX | Big Spring | Big Spring Mc Mahon-Wrinkle | 9/5730 | 9/18/19 | RNAV (GPS) RWY 24, Orig-A.
7-Nov-19 | TX | Brenham | Brenham Muni | 9/5736 | 9/18/19 | RNAV (GPS) RWY 16, Amdt 2B.
7-Nov-19 | TX | Brenham | Brenham Muni | 9/5738 | 9/18/19 | RNAV (GPS) RWY 34, Amdt 2A.
7-Nov-19 | TX | Brownwood | Brownwood Rgnl | 9/5744 | 9/18/19 | RNAV (GPS) RWY 35, Amdt 1A.
7-Nov-19 | FL | Bartow | Bartow Executive | 9/5752 | 9/20/19 | RNAV (GPS) RWY 9L, Amdt 1C.
7-Nov-19 | TX | San Antonio | Boerne Stage Field | 9/5755 | 9/18/19 | RNAV (GPS) RWY 17, Amdt 1B.
7-Nov-19 | TX | San Antonio | Boerne Stage Field | 9/5756 | 9/18/19 | RNAV (GPS) RWY 35, Amdt 1A.
7-Nov-19 | TX | Eagle Pass | Maverick County Memorial Intl | 9/5765 | 9/18/19 | RNAV (GPS) RWY 13, Amdt 1A.
7-Nov-19 | TX | Fort Worth | Bourland Field | 9/5770 | 9/18/19 | RNAV (GPS) RWY 17, Orig-A.
7-Nov-19 | TX | Lockhart | Lockhart Muni | 9/5771 | 9/18/19 | RNAV (GPS) RWY 36, Orig-A.
7-Nov-19 | TX | Lockhart | Lockhart Muni | 9/5772 | 9/18/19 | RNAV (GPS) RWY 18, Orig-A.
7-Nov-19 | TX | Beaumont/Port Arthur | Jack Brooks Rgnl | 9/5775 | 9/20/19 | RNAV (GPS) RWY 16, Orig.
7-Nov-19 | TX | Beaumont/Port Arthur | Jack Brooks Rgnl | 9/5776 | 9/20/19 | RNAV (GPS) RWY 30, Orig.
7-Nov-19 | TX | Beaumont/Port Arthur | Jack Brooks Rgnl | 9/5777 | 9/20/19 | RNAV (GPS) RWY 34, Orig.
7-Nov-19 | IA | Clarion | Clarion Muni | 9/5778 | 9/18/19 | RNAV (GPS) RWY 32, Orig.
7-Nov-19 | TX | Madisonville | Madisonville Muni | 9/5779 | 9/18/19 | RNAV (GPS) RWY 18, Orig-B.
7-Nov-19 | TX | Madisonville | Madisonville Muni | 9/5780 | 9/18/19 | RNAV (GPS) RWY 36, Orig-A.
7-Nov-19 | TX | Bryan | Coulter Field | 9/5781 | 9/18/19 | RNAV (GPS) RWY 15, Amdt 1B.
7-Nov-19 | TX | Bryan | Coulter Field | 9/5782 | 9/18/19 | RNAV (GPS) RWY 33, Amdt 1A.
7-Nov-19 | TX | Navasota | Navasota Muni | 9/5793 | 9/18/19 | RNAV (GPS) RWY 17, Orig-B.
7-Nov-19 | TX | Navasota | Navasota Muni | 9/5794 | 9/18/19 | RNAV (GPS) RWY 35, Orig-B.
7-Nov-19 | TX | Winters | Winters Muni | 9/5795 | 9/18/19 | RNAV (GPS) RWY 17, Orig-A.
7-Nov-19 | TX | Crosbyton | Crosbyton Muni | 9/5798 | 9/18/19 | RNAV (GPS) RWY 17, Amdt 1.
7-Nov-19 | TX | Dallas | Addison | 9/5804 | 9/18/19 | ILS OR LOC RWY 33, Amdt 3A.
7-Nov-19 | TX | Alice | Alice Intl | 9/5808 | 9/18/19 | RNAV (GPS) RWY 13, Amdt 1A.
7-Nov-19 | WI | Boyceville | Boyceville Muni | 9/5823 | 9/18/19 | RNAV (GPS) RWY 8, Amdt 1B
7-Nov-19 | WI | La Pointe | Major Gilbert Field | 9/5845 | 9/18/19 | RNAV (GPS) RWY 22, Orig-C.
7-Nov-19 | WI | East Troy | East Troy Muni | 9/5846 | 9/18/19 | RNAV (GPS) RWY 8, Orig-C.
7-Nov-19 | WI | East Troy | East Troy Muni | 9/5847 | 9/18/19 | RNAV (GPS) RWY 26, Orig-C.
7-Nov-19 | WI | Fort Atkinson | Fort Atkinson Muni | 9/5855 | 9/18/19 | RNAV (GPS) RWY 3, Amdt 1.
7-Nov-19 | WI | Fort Atkinson | Fort Atkinson Muni | 9/5856 | 9/18/19 | RNAV (GPS) RWY 21, Amdt 1.
7-Nov-19 | WI | New Lisbon | Mauston-New Lisbon Union | 9/5857 | 9/18/19 | RNAV (GPS) RWY 14, Orig-B.
7-Nov-19 | WI | New Lisbon | Mauston-New Lisbon Union | 9/5858 | 9/18/19 | RNAV (GPS) RWY 32, Orig-C.
7-Nov-19 | WI | New Holstein | New Holstein Muni | 9/5863 | 9/18/19 | RNAV (GPS) RWY 14, Orig-B.
7-Nov-19 | WV | Bluefield | Mercer County | 9/5869 | 9/20/19 | RNAV (GPS) RWY 23, Orig-B.
7-Nov-19 | TX | Commerce | Commerce Muni | 9/5871 | 9/18/19 | RNAV (GPS) RWY 36, Orig-B.
7-Nov-19 | WV | Bluefield | Mercer County | 9/5872 | 9/20/19 | RNAV (GPS) RWY 5, Orig.
7-Nov-19 | TX | Llano | Llano Muni | 9/5874 | 9/18/19 | RNAV (GPS) RWY 17, Orig-A.
7-Nov-19 | TX | Llano | Llano Muni | 9/5875 | 9/18/19 | RNAV (GPS) RWY 35, Orig-A.
7-Nov-19 | TX | Wharton | Wharton Rgnl | 9/5877 | 9/20/19 | RNAV (GPS) RWY 14, Orig-A.
7-Nov-19 | TX | Wharton | Wharton Rgnl | 9/5878 | 9/20/19 | RNAV (GPS) RWY 32, Orig-A.
7-Nov-19 | TX | Marshall | Harrison County | 9/5879 | 9/18/19 | RNAV (GPS) RWY 15, Orig-B.
7-Nov-19 | TX | Marshall | Harrison County | 9/5880 | 9/18/19 | RNAV (GPS) RWY 33, Orig-B.
7-Nov-19 | TX | Atlanta | Hall-Miller Muni | 9/5886 | 9/18/19 | RNAV (GPS) RWY 5, Amdt 1A.
7-Nov-19 | TX | Austin | Austin-Bergstrom Intl | 9/5888 | 9/23/19 | ILS OR LOC RWY 35L, Amdt 6A.
7-Nov-19 | TX | Houston | Houston-Southwest | 9/5908 | 9/18/19 | RNAV (GPS) RWY 27, Amdt 1.
7-Nov-19 | TX | New Braunfels | New Braunfels Rgnl | 9/5919 | 9/18/19 | RNAV (GPS) RWY 17, Orig-A.
7-Nov-19 | TX | Brady | Curtis Field | 9/5920 | 9/18/19 | RNAV (GPS) RWY 17, Amdt 1B.
7-Nov-19 | TX | Brady | Curtis Field | 9/5921 | 9/18/19 | RNAV (GPS) RWY 35, Amdt 1A.
7-Nov-19 | OR | Mc Minnville | Mc Minnville Muni | 9/6038 | 9/27/19 | RNAV (GPS) RWY 22, Orig.
7-Nov-19 | PA | Ebensburg | Ebensburg | 9/6046 | 9/27/19 | RNAV (GPS) RWY 25, Orig-D.
7-Nov-19 | OH | Mount Vernon | Knox County | 9/6073 | 9/27/19 | RNAV (GPS) RWY 10, Amdt 1A.
7-Nov-19 | TX | New Braunfels | New Braunfels Rgnl | 9/7848 | 9/18/19 | RNAV (GPS) RWY 35, Amdt 2A.

[FR Doc. 2019-22799 Filed 10-18-19; 8:45 am]

BILLING CODE 4910-13-P